DEPARTMENT OF ENERGY

National Nuclear Security Administration; Rescheduling of Scoping Meeting for the Proposed Relocation of the Los Alamos National Laboratory Technical Area 18 Missions

AGENCY: Department of Energy, National Nuclear Security Administration.

ACTION: Rescheduling of scoping meeting.

SUMMARY: On May 2, 2000, the Department of Energy (DOE) announced in the Federal Register, 65 FR 25472), that it would hold scoping meetings for the proposal to relocate missions at Technical Area 18 (TA-18). Due to the fire in the Los Alamos, New Mexico area, DOE announced in the Federal Register that the Los Alamos scoping meeting scheduled for May 17, 2000 was postponed (65 FR 31536). DOE has now rescheduled the Los Alamos scoping meeting for May 30th, 7-10 p.m. at the Northern New Mexico Community College, 921 Paseo de Onate, Espanola, New Mexico 87532. DOE regrets any inconvenience for this postponement. DOE is also announcing that the scoping period, originally scheduled to end on June 1, 2000, has been extended until June 15, 2000. Any questions associated with the TA-18 Project can be asked by calling Mr. Jay Rose at 1-800-832-0885, ext. 65484.

Issued in Washington, D.C., this 22nd day of May 2000.
Henry Garson,
NEPA Compliance Officer, Office of Defense Programs, Department of Energy.

[FR Doc. 00-13262 Filed 5-25-00; 8:45 am]

BILLING CODE 6450-01-P